DEPARTMENT OF VETERANS AFFAIRS

[OMB Control No. 2900-0752]

Agency Information Collection Activity Under OMB Review: uSPEQ® Consumer Experience Survey (Rehabilitation)

AGENCY: Veterans Health Administration, Department of Veterans Affairs.

ACTION: Notice.

SUMMARY: In compliance with the Paperwork Reduction Act (PRA) of 1995, this notice announces that the Veterans Health Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0752.”

FOR FURTHER INFORMATION CONTACT: Maribel Aponte, Office of Enterprise and Integration, Data Governance Analytics (008), 1717 H Street NW, Washington, DC 20006, (202) 266-4688 or email maribel.aponte@va.gov. Please refer to “OMB Control No. 2900-0752” in any correspondence.

SUPPLEMENTARY INFORMATION:

Authority: 44 U.S.C. 3501-21.

Title: uSPEQ® Consumer Experience Survey (Rehabilitation), VA Form 10-0467.

OMB Control Number: 2900-0752.

Type of Review: Reinstatement of a previously approved collection.

Abstract: The Department of Veterans Affairs (VA) rehabilitation programs are committed to adopting the uSPEQ® Consumer Experience 2.0 Universal Questionnaire, VA Form 10-0467, to assess outcome measures related to patient perceptions and perspectives regarding rehabilitation experiences. The uSPEQ® (pronounced you speak) is a confidential, anonymous, and scientifically tested consumer reporting system that gives persons served a voice in their services. A majority of VA rehabilitation program offices serving special emphasis populations have indicated an interest in using the uSPEQ® document as a survey of rehabilitation consumer experiences in their local, regional, and national programs. The uSPEQ survey will be used to gather input from veterans regarding their satisfaction with VA's rehabilitation programs. VA will use the data collected to continue quality improvement, informed programmatic development, and to identify rehabilitation program strengths and weaknesses.

An agency may not conduct or sponsor, and a person is not required to respond to a collection of information unless it displays a currently valid OMB control number. The Federal Register Notice with a 60-day comment period soliciting comments on this collection of information was published at 86 FR 123 on June 30, 2021, pages 34844 and 34845.

Affected Public: Individuals or Households.

Estimated Annual Burden: 32,000.

Estimated Average Burden per Respondent: 5 minutes.

Frequency of Response: Once annually.

Estimated Number of Respondents: 384,000.

By direction of the Secretary.
Maribel Aponte,
VA PRA Clearance Officer, Office of Enterprise and Integration, Data Governance Analytics, Department of Veterans Affairs.

[FR Doc. 2021-21017 Filed 9-27-21; 8:45 am]

BILLING CODE 8320-01-P